DEPARTMENT OF ENERGY

Federal Energy Regulatory Commission

Combined Notice of Filings #1

Take notice that the Commission received the following electric rate filings:

Docket Numbers: ER21-2635-001.

Applicants: Hecate Energy Johanna Facility LLC.

Description: Notice of Change in Status of Hecate Energy Johanna Facility LLC.

Filed Date: 2/17/23.

Accession Number: 20230217-5236.

Comment Date: 5 p.m. ET 3/10/23.

Docket Numbers: ER22-1205-002.

Applicants: Evergy Kansas Central, Inc.

Description: Compliance Filing to December 21, 2022 Order of Evergy Kansas Central, Inc.

Filed Date: 2/17/23.

Accession Number: 20230217-5237.

Comment Date: 5 p.m. ET 3/10/23.

Docket Numbers: ER23-510-001.

Applicants: Midcontinent Independent System Operator, Inc.

Description: Tariff Amendment: 2023-02-21_SA 3740 Deficiency Response for J1421 1st Rev GIA (J1421) to be effective 1/30/2023.

Filed Date: 2/21/23.

Accession Number: 20230221-5304.

Comment Date: 5 p.m. ET 3/14/23.

Docket Numbers: ER23-1141-000.

Applicants: PJM Interconnection, L.L.C.

Description: § 205(d) Rate Filing: Original ISA, Service Agreement No. 6799; Queue No. AD1-013 to be effective 1/20/2023.

Filed Date: 2/21/23.

Accession Number: 20230221-5103.

Comment Date: 5 p.m. ET 3/14/23.

Docket Numbers: ER23-1142-000.

Applicants: PJM Interconnection, L.L.C.

Description: § 205(d) Rate Filing: Original ISA, Service Agreement No. 6802; Queue No. AE2-214 to be effective 1/20/2023.

Filed Date: 2/21/23.

Accession Number: 20230221-5136.

Comment Date: 5 p.m. ET 3/14/23.

Docket Numbers: ER23-1143-000.

Applicants: Narragansett Electric Company.

Description: The Narragansett Electric Company submits Notice of Cancellation of the Interconnection Agreement with Northeast Energy Associates Bellingham Facility.

Filed Date: 2/14/23.

Accession Number: 20230214-5206.

Comment Date: 5 p.m. ET 3/7/23.

Docket Numbers: ER23-1144-000.

Applicants: Southwestern Public Service Company.

Description: § 205(d) Rate Filing: LP&L Settlement Filing to be effective 4/23/2023.

Filed Date: 2/21/23.

Accession Number: 20230221-5189.

Comment Date: 5 p.m. ET 3/14/23.

Docket Numbers: ER23-1145-000.

Applicants: PJM Interconnection, L.L.C.

Description: § 205(d) Rate Filing: Amendment to ISA, SA No. 6307 and ICSA, SA No. 6308; Queue No. AD2-093 to be effective 4/24/2023.

Filed Date: 2/21/23.

Accession Number: 20230221-5219.

Comment Date: 5 p.m. ET 3/14/23.

Docket Numbers: ER23-1146-000.

Applicants: PacifiCorp.

Description: § 205(d) Rate Filing: Navajo Tribal Utility Authority—NITSA Rev 1 to be effective 2/15/2023.

Filed Date: 2/21/23.

Accession Number: 20230221-5234.

Comment Date: 5 p.m. ET 3/14/23.

Docket Numbers: ER23-1147-000.

Applicants: Midcontinent Independent System Operator, Inc.

Description: § 205(d) Rate Filing: 2023-02-21_SA 3371 SIGE-Crescent City Solar 1st Rev GIA (J856) to be effective 2/10/2023.

Filed Date: 2/21/23.

Accession Number: 20230221-5253.

Comment Date: 5 p.m. ET 3/14/23.

Docket Numbers: ER23-1148-000.

Applicants: PJM Interconnection, L.L.C.

Description: § 205(d) Rate Filing: Original ISA/CSA, Service Agreement Nos. 6683/6684; Queue No. AD2-096 to be effective 1/20/2023.

Filed Date: 2/21/23.

Accession Number: 20230221-5259.

Comment Date: 5 p.m. ET 3/14/23.

Docket Numbers: ER23-1149-000.

Applicants: PJM Interconnection, L.L.C.

Description: § 205(d) Rate Filing: Original NSA, SA No. 6796; Queue No. AA1-034 to be effective 1/19/2023.

Filed Date: 2/21/23.

Accession Number: 20230221-5261.

Comment Date: 5 p.m. ET 3/14/23.

Docket Numbers: ER23-1150-000.

Applicants: PJM Interconnection, L.L.C.

Description: § 205(d) Rate Filing: Original ISA/CSA, Service Agreement Nos. 6681/6682; Queue No. AD2-092 to be effective 12/31/9998.

Filed Date: 2/21/23.

Accession Number: 20230221-5264.

Comment Date: 5 p.m. ET 3/14/23.

Docket Numbers: ER23-1151-000.

Applicants: New York Independent System Operator, Inc.

Description: § 205(d) Rate Filing: NYISO 205 filing of revisions re: responsibilities for NUFs to be effective 4/23/2023.

Filed Date: 2/21/23.

Accession Number: 20230221-5278.

Comment Date: 5 p.m. ET 3/14/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 21, 2023.
Debbie-Anne A. Reese,
Deputy Secretary.

[FR Doc. 2023-04023 Filed 2-27-23; 8:45 am]

BILLING CODE 6717-01-P